DEPARTMENT OF TRANSPORTATION

Pipeline and Hazardous Materials Safety Administration

[Docket No. PHMSA—05-20922]

Pipeline Safety: Pipeline Integrity Management in High Consequence Areas for Hazardous Liquid Operators

AGENCY: Office of Pipeline Safety (OPS), Pipeline and Hazardous Materials Safety Administration (PHMSA), DOT.

ACTION: Notice; hazardous liquid integrity management lessons learned meeting.

SUMMARY: OPS will sponsor a 1½ day workshop to review the initial Integrity Management (IM) inspections of hazardous liquid pipeline operators. Workshop topics will cover the lessons learned, accomplishments, and future expectations for such programs from both the OPS and industry perspectives.

DATES: Tuesday, May 17, 2005, from 8:30 a.m. to 5 p.m., and Wednesday, May 18, 2005, from 8:30 a.m. to 12 p.m.

ADDRESSES: The Westin Oaks, 5011 Westheimer, Houston, Texas 77056; (713) 960-8100. For discounted rates, please refer to the U.S. Department of Transportation (USDOT)—Liquid IM Meeting guest room block when making reservations. The deadline for reserving sleeping room accommodations is April 18, 2005. Further information is available on the PHMSA Web site at http://primis.phmsa.dot.gov/meetings/Mtg30.mtg. The Web site provides links to other useful information, such as the meeting agenda, and enables viewers to submit questions to OPS regarding the workshop.

This meeting is open to all interested parties. To facilitate meeting planning, advance registration for attending the workshop is strongly recommended. Advanced registration can be accomplished at the PHMSA web site. The deadline for advanced registration is Friday, May 13, 2005. Walk-in registration will be accommodated on a first-come, first-served basis.

FOR FURTHER INFORMATION CONTACT: Beth Callsen (tel. 202-366-4572; E-mail: beth.callsen@dot.gov).

SUPPLEMENTARY INFORMATION:

1. Background

In 2000, OPS issued the first in a series of rules to improve safety and environmental protection in High Consequence Areas (HCAs). The first IM rule (65 FR 75378; November 3, 2000; effective May 29, 2001) applies to hazardous liquid operators who own or operate 500 or more miles of pipeline. Subsequently, the rule was extended to include operators who own or operate less than 500 miles of hazardous liquid pipeline, (67 FR 2136; January 26, 2002; effective February 15, 2002).

The IM rule applies to pipelines that can affect HCAs. HCAs include populated areas, unusually sensitive environmental areas, and commercially navigable waterways. The objectives of the rule are to:

• Accelerate the assessment of pipeline segments that can affect HCAs. Assessment includes in-line inspection, hydrostatic pressure testing, or other equivalent methods.

• Improve operator management systems to identify and prevent potential integrity threats.

• Improve government's role in the oversight of operator integrity management programs.

• Improve public confidence in safe pipeline operation.

The rule also addresses several National Transportation Safety Board (NTSB) recommendations, Congressional mandates, and pipeline safety issues raised over the years. More information about the rule can be found at http://primis.phmsa.dot.gov/iim.

Beginning September 2002, OPS began full IM Program inspections of hazardous liquid pipeline operators. In 2004, OPS inspected over 100 hazardous liquid pipeline operators with pipeline lengths ranging from a few miles to more than 10,000 miles. These pipelines comprise more than 99% of the nation's hazardous liquid pipeline mileage.

Through these inspections and the resulting enforcement actions, OPS has assured that operators are conducting integrity assessments of their pipelines, are repairing defects that could undermine safe operation, and are putting in place the management systems and tools to improve identification and remediation of potential unsafe conditions. These interactions with operators have provided OPS a thorough understanding of operator IM programs, and have significantly improved OPS's understanding of the physical condition of the nation's pipelines.

During this meeting, OPS will share the results and lessons learned from these inspections, and will describe how these lessons will be applied in planning and conducting future IM inspections. OPS will also cover the modifications it has made to the inspection protocols as a result of these initial inspections. Industry representatives will present their perspectives on the IM inspections, summarize their IM program accomplishments, and present their perspectives on future challenges.

Issued in Washington, DC, on April 12, 2005.
Theodore L. Willke,
Deputy Associate Administrator for Pipeline Safety.

[FR Doc. 05-8007 Filed 4-20-05; 8:45 am]

BILLING CODE 4910-60-P